DEPARTMENT OF COMMERCE

National Oceanic and Atmospheric Administration

50 CFR Part 622

[Docket No. 940246-4137; I.D. 091100D]

Fisheries of the Caribbean, Gulf of Mexico, and South Atlantic; Snapper-Grouper Fishery off the Southern Atlantic States; Snowy Grouper; Commercial Trip Limit Reduction

AGENCY: National Marine Fisheries Service (NMFS), National Oceanic and Atmospheric Administration (NOAA), Commerce.

ACTION: Trip limit reduction.

SUMMARY: NMFS reduces the commercial trip limit for snowy grouper in the exclusive economic zone (EEZ) off the southern Atlantic states to 300 lb (1,134 kg). This trip limit reduction is necessary to protect the snowy grouper resource.

DATES: Effective 12:01 a.m., local time, October 1, 2000, through December 31, 2000.

FOR FURTHER INFORMATION CONTACT: Peter Eldridge, telephone: 727-570-5305, fax: 727-570-5583, e-mail: Peter.Eldridge@noaa.gov.

SUPPLEMENTARY INFORMATION: The snapper-grouper fishery off the southern Atlantic states is managed under the Fishery Management Plan for the Snapper-Grouper Fishery of the South Atlantic Region (FMP). The FMP was prepared by the South Atlantic Fishery Management Council and is implemented under the authority of the Magnuson-Stevens Fishery Conservation and Management Act by regulations at 50 CFR part 622.

The commercial quota for snowy grouper, one of the species in the snapper-grouper complex, is 344,508 lb (156,266 kg), gutted weight, each fishing year. The fishing year is January 1 through December 31. In accordance with 50 CFR 622.44(c)(3), a commercial trip limit of 2,500 lb (1,134 kg) applies until the quota is reached. When the quota is reached, or is projected to be reached, NMFS is required to reduce the commercial trip limit to 300 lb (136 kg), through the end of the fishing year.

Based on current statistics, NMFS has projected that the commercial quota for snowy grouper will be reached on September 30, 2000. Accordingly, the commercial trip limit for snowy grouper in or from the EEZ off the southern Atlantic states is reduced to 300 lb (136 kg) effective 12:01 a.m., local time, October 1, 2000, through December 31, 2000. During this period, no more than 300 lb (136 kg) of snowy grouper, round weight or gutted weight, may be (1) possessed at any time on board a vessel that has a valid commercial permit for snapper-grouper, or (2) landed, purchased, or sold from such a vessel per day. The possession of a valid commercial permit notwithstanding, the bag and possession limits apply when a vessel is operating as a charter vessel or headboat. A charter vessel with a commercial vessel permit is considered to be operating as a charter vessel when it carries a passenger who pays a fee or when there are more than three persons aboard, including operator and crew. A headboat with a commercial vessel permit is considered to be operating as a headboat when it carries a passenger who pays a fee or when there are more persons aboard than the number of crew specified in the vessel's Certificate of Inspection.

Classification

This action is taken under 50 CFR 622.43(a) and 622.44(c) and is exempt from Office of Management and Budget review under Executive Order 12866.

Authority: 16 U.S.C. 1801 et seq.

Dated: September 15, 2000.
Bruce C. Morehead,
Acting Director, Office of Sustainable Fisheries, National Marine Fisheries Service.

[FR Doc. 00-24158 Filed 9-15-00; 2:12 pm]

BILLING CODE 3510-22-S